DEPARTMENT OF COMMERCE

International Trade Administration

[A-122-047]

Elemental Sulphur From Canada; Final Results of Antidumping Duty Administrative Review

AGENCY: Import Administration, International Trade Administration, Department of Commerce.

ACTION: Notice of final results of antidumping duty administrative review of elemental sulphur from Canada.

SUMMARY: On September 7, 1999, the Department of Commerce (“the Department”) published the preliminary results and partial rescission of its administrative review of the antidumping duty order on elemental sulphur from Canada (64 FR 48587). This review covers Husky Oil, Ltd. (“Husky”), a manufacturer and exporter, and Petrosul International, Ltd. (“Petrosul”), a reseller, of the subject merchandise to the United States. The period of review is December 1, 1997, through November 30, 1998.

Based on our analysis of the comments received, we have modified our determination for the final results with respect to Petrosul. The final weighted-average dumping margins for the reviewed firms are listed below in the section entitled “Final Results of the Review.”

EFFECTIVE DATE: March 7, 2000.

FOR FURTHER INFORMATION CONTACT: Brandon Farlander or Rick Johnson, Import Administration, International Trade Administration, U.S. Department of Commerce, 14th and Constitution Avenue, N.W., Washington, D.C. 20230; telephone: (202) 482-0182 or (202) 482-3818, respectively.

SUPPLEMENTARY INFORMATION:

The Applicable Statute

Unless otherwise indicated, all citations to the Tariff Act of 1930, as amended (“the Act”), are references to the provisions effective January 1, 1995, the effective date of the amendments made to the Act by the Uruguay Rounds Agreements Act (“URAA”). In addition, unless otherwise indicated, all citations to the Department's regulations are to 19 CFR Part 351 (1998).

Background

On September 7, 1999, the Department published in the Federal Register (64 FR 48587) the preliminary results and partial rescission of its administrative review of the antidumping duty order on elemental sulphur from Canada (“Preliminary Results”). This review covers Husky Oil, Ltd. (“Husky”), a manufacturer and exporter, and Petrosul International, Ltd. (“Petrosul”), a reseller, of the subject merchandise to the United States. The period of review (“POR”) is December 1, 1997, through November 30, 1998. We invited parties to comment on our preliminary results of review.

Under section 751(a)(3)(A) of the Act, the Department may extend the deadline for completion of an administrative review if it determines that it is not practicable to complete the review within the statutory time limit. On December 22, 1999, the Department extended the time limit for the final results in this review to January 21, 2000. See Elemental Sulphur From Canada: Extension of Time Limit for Final Results of the Antidumping Duty Administrative Review, 65 FR 280, (January 4, 2000). Also, on January 21, 2000, the Department extended the time limit for the final results in this review to February 29, 2000. See Elemental Sulphur From Canada: Extension of Time Limit for Final Results of the Antidumping Duty Administrative Review, 65 FR 4804, (February 1, 2000).

On January 24, 2000, we issued a supplemental questionnaire to Petrosul for the purpose of gathering additional information regarding the sales for which Petrosul had knowledge that the merchandise was ultimately destined for the United States. On February 4, 2000, we received a letter from Petrosul indicating that it would not respond to this supplemental questionnaire.

We have now completed the administrative review in accordance with section 751 of the Act.

Scope of the Review

The product covered by this review is elemental sulphur from Canada. This merchandise is classifiable under Harmonized Tariff Schedule (“HTS”) subheadings 2503.10.00, 2503.90.00, and 2802.00.00. Although the HTS subheadings are provided for convenience and for U.S. Customs purposes, the written description of the scope of this finding remains dispositive.

Analysis of Comments Received

All issues raised in the case and rebuttal briefs by parties to this administrative review are addressed in the “Issues and Decision Memorandum” (“Decision Memorandum”) from Joseph A. Spetrini, Deputy Assistant Secretary, Import Administration, to Robert S. LaRussa, Assistant Secretary for Import Administration, dated February 29, 2000, which is hereby adopted and incorporated by reference into this notice. A list of the issues which parties have raised and to which we have responded, all of which are in the Decision Memorandum, is attached to this notice as an Appendix. Parties can find a complete discussion of all issues raised in this review and the corresponding recommendations in this public memorandum which is on file in the Central Records Unit, Room B-099 of the main Department building.

In addition, a complete version of the Decision Memorandum can be accessed directly on the Web at www.ita.doc.gov/import—admin/records/frn. The paper copy and electronic version of the Decision Memorandum are identical in content.

Use of Facts Available

For a discussion of our application of facts available, see the “Facts Available” section of the Decision Memorandum, which is on file in the Central Records Unit, room B-099 of the main Department building and available on the Web at www.ita.doc.gov/import—admin/records/frn.

Changes Since the Preliminary Results

Based on our analysis of comments received, we have assigned an adverse facts available margin to Petrosul for its failure to cooperate to the best of its ability based on its decision to not respond to our request for information.

Final Results of Review

We determine that the following percentage margins exist for the period December 1, 1997, through November 30, 1998:

Manufacturer/exporter/reseller | Margin (percent)
Husky Oil, Ltd | 40.38
Petrosul International, Ltd | 40.38

The Department shall determine, and Customs shall assess, antidumping duties on all appropriate entries. The Department will issue appraisement instructions directly to the Customs Service.

Cash Deposit

Because the antidumping duty order on elemental sulphur from Canada has been revoked, effective January 1, 2000, no cash deposits are required for entries of elemental sulphur from Canada for entries on or after January 1, 2000. See Revocation of Antidumping Finding: Elemental Sulphur From Canada, 64 FR 40553 (July 27, 1999).

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

Dated: February 29, 2000.
Joseph A. Spetrini,
Acting Assistant Secretary for Import Administration.

Appendix 1— Issues in Decision Memorandum

Comments and Responses

1. Adverse Facts Available

2. Facts Available Corroboration

3. Facts Available Determination

[FR Doc. 00-5512 Filed 2-6-00; 8:45 am]

BILLING CODE 3510-DS-P